DEPARTMENT OF TRANSPORTATION

Federal Transit Administration

[Docket No. FTA-2025-0101]

Notice of Withdrawal of Environmental Justice Guidance

AGENCY: Federal Transit Administration (FTA), Department of Transportation (DOT).

ACTION: Notice of withdrawal of guidance.

SUMMARY: The Federal Transit Administration withdraws guidance document Circular 4703.1, Environmental Justice.

DATES: The withdrawal is applicable as of September 15, 2025.

FOR FURTHER INFORMATION CONTACT: Diane Alexander, Federal Transit Administration, 1200 New Jersey Avenue SE, Washington, DC 20590, phone: (202) 366-3101, or email: diane.alexander@dot.gov.

SUPPLEMENTARY INFORMATION: In 2012, the FTA published Circular 4703.1, “Environmental Justice Policy Guidance for Federal Transit Administration Recipients.” 77 FR 42077 (July 17, 2012). Circular 4703.1 implemented Executive Order 12898, “Federal Actions to Address Environmental Justice in Minority Populations and Low-Income Populations,” 59 FR 7629 (February 16, 1994), and U.S. Department of Transportation (DOT) Order 5610.2(a), “Actions to Address Environmental Justice in Minority Populations and Low-Income Populations,” 77 FR 27534 (May 10, 2012).

On January 21, 2025, the President issued Executive Order 14173 titled “Ending Illegal Discrimination and Restoring Merit-Based Opportunity,” 90 FR 8633 (Jan. 21, 2025). Among other actions, this order revoked Executive Order 12898.

On January 29, 2025, the Secretary of Transportation issued a memorandum describing “initial steps to be taken by the U.S. Department of Transportation . . . to implement the provisions of several executive orders.” Among other actions, this memorandum cancelled Departmental Order 5610.2C titled “U.S. Department of Transportation Actions to Address Environmental Justice in Minority Populations and Low-Income Populations.” DOT Order 5610.2C superseded the previously issued DOT Order 5610.2B, which itself superseded DOT Order 5610.2(a).

Executive Order 12898 and DOT Order 5610.2(a) provided the legal basis for FTA Circular 4703.1. As these authorities are no longer in effect, FTA is withdrawing Circular 4703.1.

Marcus J. Molinaro,
Administrator.

[FR Doc. 2025-17783 Filed 9-12-25; 8:45 am]

BILLING CODE 4910-57-P